DEPARTMENT OF EDUCATION

Nationally Recognized Accrediting Agencies and State Approval Agencies

AGENCY: Department of Education.

ACTION: List of nationally recognized accrediting agencies and state approval agencies.

SUMMARY: The U.S. Secretary of Education is required by statute to publish a list of nationally recognized accrediting agencies and State approval agencies whose accreditation or approval is a required element in enabling accredited or approved institutions, programs, or both to establish eligibility to participate in Federal programs and whom the Secretary has determined to be reliable authorities regarding the quality of education or training provided by the institutions or programs these agencies accredit or approve. This document contains the current list of nationally recognized agencies and supersedes any previously published lists of these types of agencies.

SUPPLEMENTARY INFORMATION: As required by statute,¹ the Secretary issues the following list of nationally recognized accrediting agencies and State approval agencies that the Secretary has determined to be reliable authorities concerning the quality of education or training provided by the institutions, programs, or both that these agencies accredit or approve. The criteria the Secretary uses in determining whether a particular agency should be listed as a nationally recognized accrediting agency are in 34 CFR part 602, while the criteria for State approval agencies are in 34 CFR part 603. The dates in parentheses for each agency are the date of initial listing as a nationally recognized agency, the date of the Secretary's most recent grant of recognition to the agency, and the date of the agency's next scheduled review for continued recognition. The geographical scope of recognition of each accrediting agency is the United States, unless stated otherwise. If the Secretary has placed a limitation on the scope of an agency's recognition for purposes of Title IV of the Higher Education Act of 1965, as amended, that limitation is noted in a Title IV Note for that agency.

¹ 20 U.S.C. 1001(a)(5), 1094(c)(4), 1011c, 1401(a)(11)(E), 4351(3); 25 U.S.C. 1813; 38 U.S.C. 3675(a); 42 U.S.C. 298b(6).

Note: A determination as to whether or not an agency's scope of recognition includes the accreditation of distance education applies only to agencies reviewed for recognition after November, 1999.

I. Regional Institutional Accrediting Agencies

Middle States Association of Colleges and Schools, Commission on Higher Education (1952/1996/2002). Scope of recognition: the accreditation and preaccreditation (“Candidate for Accreditation”) of institutions of higher education in Delaware, The District of Columbia, Maryland, New Jersey, New York, Pennsylvania, Puerto Rico, the U.S. Virgin Islands, the Republic of Panama and a limited number of freestanding American-style institutions abroad that are chartered or licensed by an appropriate agency within the Middle States region.

New England Association of Schools and Colleges, Commission on Institutions of Higher Education (1952/1997/2002). Scope of recognition: The accreditation and preaccreditation (“Candidate for Accreditation”) of institutions of higher education in Connecticut, Maine, Massachusetts, New Hampshire, Rhode Island, and Vermont that award bachelor's, master's, or doctoral degrees, or any combination of these degrees, as well as associate degree-granting institutions in those states that include degrees in liberal arts or general studies among their offerings. This recognition extends to the Board of Trustees of the Association jointly with the Commission for decisions involving preaccreditation, initial accreditation, and adverse actions.

New England Association of Schools and Colleges, Commission on Technical and Career Institutions (1952/1997/2002). Scope of recognition: The accreditation and preaccreditation (“Candidacy”) of secondary institutions with vocational-technical programs at the 13th and 14th grade level, postsecondary institutions, and institutions of higher education that provide primarily vocational/technical education at the certificate, associate, and baccalaureate degree levels in Connecticut, Maine, Massachusetts, New Hampshire, Rhode Island, and Vermont. This recognition extends to the Board of Trustees of the Association jointly with the Commission for decisions involving preaccreditation, initial accreditation, and adverse actions. Title IV Note: Any vocational/technical schools accredited by this agency that offer non-degree, postsecondary education and that wish to use that accreditation to establish eligibility to participate in Title IV programs must be accredited by the agency as offering education through the 13th or 14th grade level.

North Central Association of Colleges and Schools, Commission on Institutions of Higher Education (1952/1997/2002). Scope of recognition: The accreditation and preaccreditation (“Candidate for Accreditation”) of degree-granting institutions of higher education in Arizona, Arkansas, Colorado, Illinois, Indiana, Iowa, Kansas, Michigan, Minnesota, Missouri, Nebraska, New Mexico, North Dakota, Ohio, Oklahoma, South Dakota, West Virginia, Wisconsin, Wyoming, and the Navajo Nation.

North Central Association of Colleges and Schools, Executive Board of the Commission on Schools (1974/1998/2000). Scope of recognition: The accreditation and preaccreditation (“Candidate for Accreditation”) of schools offering non-degree, postsecondary education in Arizona, Arkansas, Colorado, Illinois, Indiana, Iowa, Kansas, Michigan, Minnesota, Missouri, Nebraska, New Mexico, North Dakota, Ohio, Oklahoma, South Dakota, West Virginia, Wisconsin, Wyoming, and the Navajo Nation. Title IV Note: Only those vocational/technical schools accredited by this agency that offer non-degree, postsecondary education may use that accreditation to establish eligibility to participate in Title IV programs.

Northwest Association of Schools and Colleges, Commission on Colleges (1952/1997/2002). Scope of recognition: The accreditation and preaccreditation (“Candidate for Accreditation”) of institutions of higher education in Alaska, Idaho, Montana, Nevada, Oregon, Utah, and Washington.

Southern Association of Colleges and Schools, Commission on Colleges (1952/1995/2001). Scope of recognition: The accreditation and preaccreditation (“Candidate for Accreditation”) of degree-granting institutions of higher education in Alabama, Florida, Georgia, Kentucky, Louisiana, Mississippi, North Carolina, South Carolina, Tennessee, Texas, and Virginia.

Western Association of Schools and Colleges, Accrediting Commission for Community and Junior Colleges (1952/1997/2002). Scope of recognition: The accreditation and preaccreditation (“Candidate for Accreditation”) of community and junior colleges in California, Hawaii, the United States territories of Guam and American Samoa, the Republic of Palau, the Federated States of Micronesia, the Commonwealth of the Northern Marianna Islands, and the Republic of the Marshall Islands.

Western Association of Schools and Colleges, Accrediting Commission for Schools (1974/1999/2003). Scope of recognition: The accreditation and preaccreditation (“Candidate for Accreditation”) of adult and postsecondary schools that offer programs below the degree level in California, Hawaii, the United States territories of Guam and American Samoa, the Republic of Palau, the Federated States of Micronesia, the Commonwealth of the Northern Marianna Islands, and the Republic of the Marshall Islands. Title IV Note: Only adult and postsecondary schools accredited by this agency that offer postsecondary programs below the degree level may use accreditation by this agency to establish eligibility to participate in Title IV programs.

Western Association of Schools and Colleges, Accrediting Commission for Senior Colleges and Universities (1952/1995/2001). Scope of recognition: The accreditation and preaccreditation (“Candidate for Accreditation”) of senior colleges and universities in California, Hawaii, the United States territories of Guam and American Samoa, the Republic of Palau, the Federated States of Micronesia, the Commonwealth of the Northern Marianna Islands, and the Republic of the Marshall Islands.

II. National Institutional and Specialized Accrediting Agencies

Accreditation Board for Engineering and Technology, Inc. (1952/1997/2001). Scope of recognition: The accreditation of basic (baccalaureate) and advanced (master's) level programs in engineering, associate and baccalaureate degree programs in engineering technology, and engineering-related programs at the baccalaureate and advanced degree level. Title IV Note: Accreditation by this agency does not enable the entities it accredits to establish eligibility to participate in Title IV programs.

Accreditation Commission for Acupuncture and Oriental Medicine (1988/1995/2000). Scope of recognition: The accreditation of first-professional master's degree and professional master's level certificate and diploma programs in acupuncture and Oriental medicine. Title IV Note: Only freestanding schools or colleges of acupuncture or Oriental medicine may use accreditation by this agency to establish eligibility to participate in Title IV programs.

Accrediting Association of Bible Colleges, Commission on Accreditation (1952/1996/2001). Scope of recognition: The accreditation and preaccreditation (“Candidate for Accreditation”) of Bible colleges and institutes offering undergraduate programs.

Accrediting Bureau of Health Education Schools (1982/1998/2002). Scope of recognition: The accreditation of private, postsecondary allied health education institutions and institutions that offer predominantly allied health programs, medical assistant programs, medical laboratory technician programs, and allied health programs leading to certificates, diplomas, and the Associate of Applied Science and the Associate of Occupational Science degrees. Title IV Note: Only freestanding allied health education institutions and institutions that offer predominantly allied health programs may use accreditation by this agency to establish eligibility to participate in Title IV programs.

Accrediting Commission of Career Schools and Colleges of Technology (1967/1999/2003). Scope of recognition: The accreditation of private, postsecondary, non-degree-granting institutions and degree-granting institutions, including those granting associate and baccalaureate degrees, that are predominantly organized to educate students for occupational, trade and technical careers.

Accrediting Commission on Education for Health Services Administration (1970/1995/2000). Scope of recognition: The accreditation of graduate programs in health services administration. Title IV Note: Accreditation by this agency does not enable the entities it accredits to establish eligibility to participate in Title IV programs.

Accrediting Council for Continuing Education and Training (1978/1997/2002). Scope of recognition: The accreditation of institutions of higher education that offer non-collegiate continuing education programs. Title IV Note: Only those institutions classified by this agency as “vocational” may use accreditation by the agency to establish eligibility to participate in Title IV programs.

Accrediting Council for Independent Colleges and Schools (1956/1995/2001). Scope of recognition: The accreditation of private postsecondary institutions offering business and business-related programs and the accreditation and preaccreditation (“Recognized Candidate”) of junior and senior colleges of business (including senior colleges with master's degree programs), as well as independent, freestanding institutions offering only graduate business and business-related programs at the master's degree level. Title IV Note: The only institutions preaccredited by this agency that may use that preaccreditation to establish eligibility to participate in Title IV programs are private, non-profit junior and senior colleges of business and private, non-profit freestanding institutions offering only graduate business and business-related programs at the master's degree level.

Accrediting Council on Education in Journalism and Mass Communications (1952/1996/2001). Scope of recognition: The accreditation of units within institutions offering professional undergraduate and graduate (master's) degree programs in journalism and mass communications. Title IV Note: Accreditation by this agency does not enable the entities it accredits to establish eligibility to participate in Title IV programs.

American Academy for Liberal Education (1995/1997/2001). Scope of recognition: The accreditation and preaccreditation (“Candidate for Accreditation”) of institutions of higher education and programs within institutions of higher education that offer liberal arts degrees at the baccalaureate level or a documented equivalency. Title IV Note: Only institutions of higher education accredited by this agency may use that accreditation to establish eligibility to participate in Title IV programs.

American Association for Marriage and Family Therapy, Commission on Accreditation for Marriage and Family Therapy Education (1978/1995/2000). Scope of recognition: The accreditation of clinical training programs in marriage and family therapy at the master's, doctoral, and postgraduate levels. Title IV Note: Accreditation by this agency does not enable the entities it accredits to establish eligibility to participate in Title IV programs.

American Association of Nurse Anesthetists, Council on Accreditation of Nurse Anesthesia Educational Programs (1955/1996/2002). Scope of recognition: The accreditation of institutions and programs of nurse anesthesia at the certificate, master's, or doctoral degree levels. Title IV Note: Only hospital-based nurse anesthesia programs and freestanding nurse anesthesia institutions may use accreditation by this agency to establish eligibility to participate in Title IV programs

American Bar Association, Council of the Section of Legal Education and Admissions to the Bar (1952/1997/2000). Scope of recognition: The accreditation of programs in legal education that lead to the first professional degree in law, as well as freestanding law schools offering such programs. Title IV Note: Only freestanding law schools may use accreditation by this agency to establish eligibility to participate in Title IV programs.

American Board of Funeral Service Education, Committee on Accreditation (1972/1997/2002). Scope of recognition: The accreditation of institutions and programs awarding diplomas, associate degrees and bachelor's degrees in funeral service or mortuary science. Title IV Note: Only freestanding schools or colleges of funeral service or mortuary science may use accreditation by this agency to establish eligibility to participate in Title IV programs.

American College of Nurse-Midwives, Division of Accreditation (1982/1995/2001). Scope of recognition: The accreditation and preaccreditation (“Preaccreditation”) of basic certificate and graduate nurse-midwifery education programs for registered nurses, as well as the accreditation and preaccreditation of pre-certification nurse-midwifery education programs. Title IV Note: Accreditation by this agency does not enable the entities it accredits to establish eligibility to participate in Title IV programs.

American Council on Pharmaceutical Education (1952/1995/2001). Scope of recognition: The accreditation and preaccreditation (“Precandidate” and “Candidate”) of professional degree programs in pharmacy leading to the degrees of Baccalaureate in Pharmacy and Doctor of Pharmacy. Title IV Note: Accreditation by this agency does not enable the entities it accredits to establish eligibility to participate in Title IV programs.

American Dental Association, Commission on Dental Accreditation (1952/1995/2001). Scope of recognition: The accreditation of predoctoral dental education programs (programs leading to the D.D.S of D.M.D degree); dental auxiliary education programs (dental assisting, dental hygiene and dental laboratory technology); and advanced dental educational programs (general practices residency, advanced general dentistry, and the specialties of dental public health, endodontics, oral pathology, orthodontics, oral and maxillofacial surgery, pedodontics, periodontics, and prosthodontics). Title IV Note: Accreditation by this agency does not enable the entities it accredits to establish eligibility to participate in Title IV programs.

The American Dietetic Association, Commission on Accreditation for Dietetics Education (1974/1996/2002). Scope of recognition: The accreditation of coordinated programs in dietetics at both the undergraduate and graduate level, postbaccalaureate dietetic internships, and dietetic technician programs at the associate degree level. Title IV Note: Only postbaccalaureate dietetic internship programs may use accreditation by this agency to establish eligibility to participate in Title IV programs.

American Occupational Therapy Association, Accreditation Council for Occupational Therapy Education (1952/1995/2001). Scope of recognition: The accreditation of entry-level professional occupational therapy educational programs awarding baccalaureate degrees, post-baccalaureate certificates, professional master's degrees, and combined baccalaureate/ master's degrees, and also for the accreditation of occupational therapy assistant programs leading to an associate degree or certificate. Title IV Note: Accreditation by this agency does not enable the entities it accredits to establish eligibility to participate in Title IV programs.

American Optometric Association, Council on Optometric Education (1952/1997/2002). Scope of recognition: The accreditation and preaccreditation (“Reasonable Assurance” and “Preliminary Approval” {for professional degree programs} and “Candidacy Pending” {for optometric residency programs in Veterans' Administration facilities}) of professional optometric degree programs, optometric residency programs, and optometric technician (associate degree) programs. Title IV Note: Accreditation by this agency does not enable the entities it accredits to establish eligibility to participate in Title IV programs.

American Osteopathic Association, Bureau of Professional Education (1952/1995/2000). Scope of recognition: The accreditation and preaccreditation (“Provisional Accreditation”) of freestanding institutions of osteopathic medicine and programs leading to the degree of Doctor of Osteopathy or Doctor of Osteopathic Medicine. Title IV Note: Only freestanding schools or colleges of osteopathic medicine may use accreditation by this agency to establish eligibility to participate in Title IV programs.

American Physical Therapy Association, Commission on Accreditation in Physical Therapy Education (1977/1996/2001). Scope of recognition: The accreditation and preaccreditation (“Candidate for Accreditation” status) of programs for the preparation of physical therapists and physical therapist assistants. Title IV Note: Accreditation by this agency does not enable the entities it accredits to establish eligibility to participate in Title IV programs.

American Podiatric Medical Association, Council on Podiatric Medical Education (1952/1995/2000). Scope of recognition: The accreditation and preaccreditation (“Candidate Status”) of freestanding colleges of podiatric medicine and programs of podiatric medicine, including first professional programs leading to the degree of Doctor of Podiatric Medicine. Title IV Note: Only freestanding schools or colleges of podiatric medicine may use accreditation by this agency to establish eligibility to participate in Title IV programs.

American Psychological Association, Committee on Accreditation (1970/1999/2004). Scope of recognition: The accreditation of doctoral programs in clinical, counseling, school and combined professional-scientific psychology, predoctoral internship programs in professional psychology, and postdoctoral residency programs in professional psychology. Title IV Note: Accreditation by this agency does not enable the entities it accredits to establish eligibility to participate in Title IV programs.

American Speech-Language Hearing Association, Council on Academic Accreditation (1967/1997/2002). Scope of recognition: The accreditation and preaccreditation (“Candidacy Status”) of Master's and doctoral-level degree programs in speech-language pathology and audiology. Title IV Note: Accreditation by this agency does not enable the entities it accredits to establish eligibility to participate in Title IV programs.

American Veterinary Medical Association, Council on Education (1952/1997/2001). Scope of recognition: The accreditation and preaccreditation (“Reasonable Assurance”) of programs leading to professional degrees (D.V.M. or D.M.V.) in veterinary medicine. Title IV Note: Accreditation by this agency does not enable the entities it accredits to establish eligibility to participate in Title IV programs.

Association for Clinical Pastoral Education, Inc., Accreditation Commission (1969/1998/2001). Scope of recognition: The accreditation of clinical pastoral education (CPE) centers and CPE and supervisory CPE programs. Title IV Note: Accreditation by this agency does not enable the entities it accredits to establish eligibility to participate in Title IV programs.

Association of Advanced Rabbinical and Talmudic Schools, Accreditation Commission (1974/1997/2002). Scope of recognition: The accreditation and preaccreditation (“Correspondent” and “Candidate”) of advanced rabbinical and Talmudic schools.

Association of Theological Schools in the United States and Canada, Commission on Accrediting (1952/1999/2003). Scope of recognition: The accreditation and preaccreditation (“Candidate for Accredited Status”) of freestanding institutions, as well as programs affiliated with larger institutions, that offer graduate professional education for ministry and graduate study of theology. Title IV Note: Only freestanding institutions, colleges, or seminaries of theology may use accreditation by this agency to establish eligibility to participate in Title IV programs.

Commission on Collegiate Nursing Education (1999/2000). Scope of recognition: The accreditation of nursing education programs at the baccalaureate and graduate degree levels.

Commission on Opticianry Accreditation (1985/1998/2001). Scope of recognition: The accreditation of two-year programs for the ophthalmic dispenser and one-year programs for the ophthalmic laboratory technician. Title IV Note: Accreditation by this agency does not enable the entities it accredits to establish eligibility to participate in Title IV programs.

The Council on Chiropractic Education, Commission on Accreditation (1974/1997/2001). Scope of recognition: The accreditation of Doctor of Chiropractic programs and single-purpose institutions offering the Doctor of Chiropractic program. Title IV Note: Only freestanding schools or colleges of chiropractic may use accreditation by this agency to establish eligibility to participate in Title IV programs.

Council on Education for Public Health (1974/1997/2002). Scope of recognition: The accreditation and preaccreditation (“Preaccreditation”) of graduate schools of public health, graduate programs in community health education outside schools of public health, and graduate programs in community health/preventive medicine outside schools of public health. Title IV Note: Accreditation by this agency does not enable the entities it accredits to establish eligibility to participate in Title IV programs.

Council on Naturopathic Medical Education (1987/1995/1999). Scope of recognition: The accreditation and preaccreditation (“Candidate for Accreditation”) of institutions and graduate programs in Naturopathy that lead to the degree of Doctor of Naturopathy (N.D.) or Doctor of Naturopathic Medicine (N.M.D.). Title IV Note: Only freestanding schools or colleges of naturopathic medicine or naturopathy may use accreditation by this agency to establish eligibility to participate in Title IV programs. NOTE: The agency was last reviewed for continued recognition in December 1999. The Secretary's decision regarding recognition is still pending.

Council on Occupational Education (1969/1997/2000). Scope of recognition: The accreditation and preaccreditation (“Candidate for Accreditation”) of non-degree granting postsecondary occupational/vocational institutions and those postsecondary occupational/vocational education institutions that grant the applied associate degree in specific vocational/occupational fields.

Distance Education and Training Council, Accrediting Commission (1959/1996/2001). Scope of recognition: The accreditation of private and non-private distance education institutions offering non-degree and associate, baccalaureate, and master's degree programs primarily through the distance learning method. Title IV Note: Accreditation by this agency does not enable the entities it accredits to establish eligibility to participate in Title IV programs.

Joint Review Committee on Educational Programs in Nuclear Medicine Technology (1974/1995/2001). Scope of recognition: The accreditation of higher education programs for the nuclear medicine technologist. Title IV Note: Accreditation by this agency does not enable the entities it accredits to establish eligibility to participate in Title IV programs.

Joint Review Committee on Education in Radiologic Technology (1957/1995/2001). Scope of recognition: The accreditation of educational programs for radiographers and radiation therapists. Title IV Note: Only hospital-based radiologic technology programs and freestanding radiologic technology institutions may use accreditation by this agency to establish eligibility to participate in Title IV programs.

Liaison Committee on Medical Education (1952/1997/2002). Scope of recognition: The accreditation of medical education programs leading to the M.D. degree. Title IV Note: Accreditation by this agency does not enable the entities it accredits to establish eligibility to participate in Title IV programs.

Montessori Accreditation Council for Teacher Education, Commission on Accreditation (1995/1999/2003). Scope of recognition: The accreditation of Montessori teacher education institutions and programs evaluated by the following review committees: the American Montessori Society Review Committee and the Independent Review Committee. Title IV Note: Only freestanding Montessori teacher education schools may use accreditation by this agency to establish eligibility to participate in Title IV programs. Further, that accreditation must have been granted in conjunction with the accrediting activities of the review committees listed above.

National Accrediting Agency for Clinical Laboratory Sciences (1974/1996/2001). Scope of recognition: The accreditation of programs in Clinical Laboratory Science/Medical Technology, Clinical Laboratory Technician/Medical Laboratory Technician-Associate Degree, Clinical Laboratory Technician/Medical Laboratory Technician-Certificate, Histologic Technician/Histotechnologist, and Pathologists' Assistant. Title IV Note: Only hospital-based clinical laboratory science programs and freestanding laboratory science institutions may use accreditation by this agency to establish eligibility to participate in Title IV programs.

National Accrediting Commission of Cosmetology Arts and Sciences (1970/1999/2004). Scope of recognition: The accreditation of postsecondary schools and departments of cosmetology arts and sciences.

National Association of Nurse Practitioners in Women's Health, Council on Accreditation (1996/1998/2002). Scope of recognition: The accreditation of women's health nurse practitioner programs. Title IV Note: Accreditation by this agency does not enable the entities it accredits to establish eligibility to participate in Title IV programs.

National Association of Schools of Art and Design, Commission on Accreditation (1966/1997/2002). Scope of recognition: The accreditation of institutions and units within institutions offering degree-granting and non-degree-granting programs in art, design, or art/design-related disciplines. Title IV Note: Only freestanding schools or colleges of art and design may use accreditation by this agency to establish eligibility to participate in Title IV programs.

National Association of Schools of Dance, Commission on Accreditation (1983/1997/2002). Scope of recognition: The accreditation of institutions and units within institutions offering degree-granting and non-degree-granting programs in dance and dance-related disciplines. Title IV Note: Only freestanding schools or colleges of dance may use accreditation by this agency to establish eligibility to participate in Title IV programs.

National Association of Schools of Music, Commission on Accreditation, Commission on Non-Degree-Granting Accreditation, Commission on Community/Junior College Accreditation (1952/1997/2002). Scope of recognition: The accreditation of institutions and units within institutions offering degree-granting and non-degree-granting programs in music and music-related disciplines, including community/junior colleges and independent degree-granting and non-degree-granting institutions. Title IV Note: Only freestanding schools or colleges of music may use accreditation by this agency to establish eligibility to participate in Title IV programs.

National Association of Schools of Theatre, Commission on Accreditation (1982/1997/2002). Scope of recognition: The accreditation of institutions and units within institutions offering degree-granting and non-degree-granting programs in theatre and theatre-related disciplines. Title IV Note: Only freestanding schools or colleges of theatre may use accreditation by this agency to establish eligibility to participate in Title IV programs.

National Council for Accreditation of Teacher Education (1952/1995/2000). Scope of recognition: The accreditation of professional education units providing baccalaureate and graduate degree programs for the preparation of teachers and other professional personnel for elementary and secondary schools. Title IV Note: Accreditation by this agency does not enable the entities it accredits to establish eligibility to participate in Title IV programs.

National League for Nursing Accrediting Commission (1952/1998/2001). Scope of recognition: The accreditation of programs in practical nursing, and diploma, associate, baccalaureate and higher degree nurse education programs. Title IV Note: Only diploma programs and practical nursing programs not located in a regionally accredited college or university may use accreditation by this agency to establish eligibility to participate in Title IV programs.

New York State Board of Regents (1952/1995/2000). Scope of recognition: The accreditation (registration) of collegiate degree-granting programs or curricula offered by institutions of higher education located in the state of New York and of credit-bearing certificate and diploma programs offered by degree-granting institutions of higher education located in the state of New York.

Transnational Association of Christian Colleges and Schools, Accreditation Commission (1991/1999/2004). Scope of recognition: The accreditation and preaccreditation (“Candidate for Accreditation”) of postsecondary institutions that offer certificates, diplomas, and associate, baccalaureate, and graduate degrees, including institutions that offer distance education.

III. State Approval Agencies for Public Postsecondary Vocational Education

Kansas Board of Regents (1975/1998/2002).

Missouri State Board of Education (1974/1999/2003).

New York State Board of Regents (1974/1998/2002).

Oklahoma Board of Career and Technology Education (1976/1998/2002). Scope of recognition: The approval of public postsecondary vocational education offered at institutions in the State of Oklahoma that are not under the jurisdiction of the Oklahoma State Regents for Higher Education.

Oklahoma State Regents for Higher Education (1976/1996/2000). Scope of recognition: The approval of public postsecondary vocational education in the state of Oklahoma for which credit earned is applied toward a degree, diploma, or other postsecondary academic or collegiate award given at State institutions comprising the Oklahoma State System of Higher Education.

Puerto Rico Human Resources and Occupational Development Council (1983/2000/2004).

Utah State Board for Applied Technology Education (1976/1998/2002).

IV. State Approval Agencies for Nurse Education

Iowa Board of Nursing (1969/1998/2002).

Maryland Board of Nursing (1985/1998/2002).

Missouri State Board of Nursing (1970/1999/2003).

Montana Board of Nursing (1969/2000/2004).

New Hampshire Board of Nursing (1969/1999/2003).

New York State Board of Regents (1969/1998/2002).

FOR FURTHER INFORMATION CONTACT: Karen W. Kershenstein, Director, Accreditation and State Liaison, U.S. Department of Education, 1990 K Street NW, Room 7105, Washington, D.C. 20006-8509. Telephone: (202) 219-7011. The e-mail address for Dr. Kershenstein is: Karen_Kershenstein@ed.gov

Individuals who use a telecommunications device for the deaf (TDD) may call the Federal Information Relay Service (FIRS) at 1-800-877-8339.

Individuals with disabilities may obtain this document in an alternate format (e.g., Braille, large print, audiotape, or computer diskette) on request to the contact person listed in the preceding paragraph.

Electronic Access To This Document

You may view this document, as well as all other Department of Education documents published in the Federal Register, in text or Portable Document Format (PDF) on the Internet at either of the following sites:

http://ocfo.ed.gov/fedreg.htm

http://www.ed.gov/news.html

To use the PDF you must have Adobe Acrobat Reader, which is available free at either of the previous sites. If you have any questions about using the PDF, call the U.S. Government Printing Office (GPO) toll free, at 1-888-293-6498; or in the Washington, DC area, at (202) 512-1530.

Note: The official version of this document is the document published in the Federal Register. Free Internet access to the official edition of the Federal Register and the Code of Federal Regulations is available on GPO Access at: http://www.access.gpo.gov/nara/index.html

Program Authority: 20 U.S.C. 1001(a)(5), 1094(c)(4), 1011c, 1401(a)(11)(E), 4351(3); 25 U.S.C. 1813; 38 U.S.C. 3675(a); 42 U.S.C. 298b(6).

Dated: August 25, 2000.
A. Lee Fritschler,
Assistant Secretary, Office of Postsecondary, Education.

[FR Doc. 00-22400 Filed 8-31-00; 8:45 am]

BILLING CODE 4000-01-U